Presidential Determination No. 2021-09 of July 23, 2021

Unexpected Urgent Refugee and Migration Needs

Memorandum for the Secretary of State

By the authority vested in me as President by the Constitution and the laws of the United States of America, including section 2(c)(1) of the Migration and Refugee Assistance Act of 1962 (22 U.S.C. 2601(c)(1)) (MRAA), I hereby determine, pursuant to section 2(c)(1) of the MRAA, that it is important to furnish assistance under the MRAA in an amount of up to $100 million from the United States Emergency Refugee and Migration Assistance Fund for the purpose of meeting unexpected urgent refugee and migration needs, victims of conflict, and other persons at risk as a result of the situation in Afghanistan, including applicants for Special Immigrant Visas. Such assistance may be provided on a bilateral or multilateral basis as appropriate, including through contributions to international organizations and through funding to other nongovernmental organizations, governments, and United States departments and agencies.

This determination supersedes Presidential Determination 2021-08 of June 11, 2021.

You are authorized and directed to submit this determination to the Congress, along with the accompanying Justification, and to publish this determination in the Federal Register.

THE WHITE HOUSE,

Washington, July 23, 2021

[FR Doc. 2021-16382

Filed 7-28-21; 11:15 am]

Billing code 4710-10-P